MERIT SYSTEMS PROTECTION BOARD

Sunshine Act Meeting

AGENCY: Merit Systems Protection Board.

ACTION: Notice.

SUMMARY: Notice is hereby given of the scheduling of a Sunshine Act Meeting on the proposed 2015-2018 research agenda of the Merit System Protection Board's Office of Policy and Evaluation.

DATE AND TIME: Tuesday, September 16, 2014, at 10 a.m.

PLACE: National Courts Building, Room 203, 717 Madison Place NW., Washington, DC 20439.

STATUS: Open.

FOR FURTHER INFORMATION CONTACT: Tanya Page at (202) 254-4503; or James Tsugawa at (202) 254-4506; or email research.agenda@mspb.gov.

SUPPLEMENTARY INFORMATION: Pursuant to the Government in the Sunshine Act (5 U.S.C. 552(b)), and in accordance with the Merit Systems Protection Board's (MSPB) regulations at 5 CFR 1206.1-12, MSPB will hold a meeting on the research activities proposed for inclusion in the next cycle of studies to be conducted by MSPB's Office of Policy and Evaluation. MSPB has statutory responsibility to conduct objective, nonpartisan studies that assess and evaluate Federal merit systems policies, operations, and practices (see 5 U.S.C. 1204(a)(3)).

Earlier this year, MSPB stakeholders and the public were invited to provide feedback and ideas for the research agenda. During this meeting, the proposed research agenda will be discussed and several key stakeholders have been invited to present their views on the proposed research topics.

The public may attend this meeting for the sole purpose of observation. To facilitate entry to the National Courts Building, persons who wish to attend must provide their names to Tanya Page (at tanya.page@mspb.gov) by September 10, 2014. Persons with disabilities who require reasonable accommodation should direct the request to the MSPB Director of Equal Employment Opportunity at (202) 254-4405 or V/TDD 1-800-877-8339 (Federal Relay Service). All such requests should be made at least one week in advance of the meeting. A recording of the meeting will be made available on MSPB's Web site.

The research topics, organized into six broad areas of related research, are listed below. Further description of these topics is available on MSPB's Web site (www.mspb.gov). The public can provide comments on the proposed research agenda by emailing research.agenda@mspb.gov. Comments will be accepted through October 16, 2014.

Defending Merit

1. Adverse Action Rules, Regulations, and Practices

2. Employment of Persons with Disabilities in the Federal Government

3. Freedom from Prohibited Personnel Practices: A Vision Achieved?

4. Preventing Nepotism in the Federal Government

5. Reprisal for Protected Activity

6. Sexual Harassment in Federal Workplaces—An Update

7. Due Process Rights of Federal Employees

8. Effect of 2014 Legislation Concerning Senior Executives in the Department of Veterans Affairs

9. Whistleblowing After the Whistleblower Protection Enhancement Act

Recruitment and Hiring

10. Federal Hiring: Reformed or In Need of Reform?

11. How Do Selecting Officials Make Hiring Decisions?

12. Identifying the Best Qualified Candidates for Federal Positions

13. Recruiting and Retaining Employees in STEMM Occupations

14. Supervisory and Managerial Probation: Final Hurdle or Formality?

Pay and Performance Management

15. A “Performance Review” of the Performance Review

16. Federal Pay Systems—Experience Outside the General Schedule

17. Position Classification: Purposes and Practices

18. The Incidence and Impact of Poor Performance

Supervision and Leadership

19. Dual Career Paths for Supervisors and Technical Specialists

20. Improving the Selection of Supervisors

21. Performance Evaluation in the Senior Executive Service: Leading by Example?

22. Senior Executives: Learning from Success

Building an Effective Workforce

23. Flexible Work

24. Technology and the Federal Workforce

25. The Federal Job as a “Calling”

26. The Human Resources Workforce: Rising to the Challenge?

27. What Do Employees Seek and Receive from Federal Service?

28. Workforce Reshaping: Do Agencies have the Right Tools?

29. Workforce and Succession Planning: Is the Exercise Producing Results?

Focus on the U.S. Office of Personnel Management

30. Hiring Reform Initiatives and Outcomes

31. The Civil Service Reform Act Turns 40

32. USAHire—An Initiative to Improve Entry-Level Hiring

William D. Spencer,
Clerk of the Board.

[FR Doc. 2014-19351 Filed 8-12-14; 11:15 am]

BILLING CODE 7400-01-P